ENVIRONMENTAL PROTECTION AGENCY

[EPA-HQ-ORD-2015-0635; FRL-8988-01-ORD]

Board of Scientific Counselors (BOSC) Chemical Safety for Sustainability and Health and Environmental Risk Assessment Subcommittee Meeting—November 2021

AGENCY: Environmental Protection Agency (EPA).

ACTION: Notice of public meeting.

SUMMARY: The Environmental Protection Agency (EPA), Office of Research and Development (ORD), gives notice of a series of virtual meetings of the Board of Scientific Counselors (BOSC) Chemical Safety for Sustainability and Health and Environmental Risk Assessment (CSS HERA) Subcommittee to review the recent progress and activities of the Chemical Safety Analytics (CSA) and Emerging Materials and Technologies (EMT) research areas.

DATES:

1. The initial meeting will be held over two days via videoconference:

a. Thursday, November 4, 2021, from 12:00 p.m. to 5:00 p.m. (EDT); and

b. Friday, November 5, 2021, from 12:00 p.m. to 5:00 p.m. (EDT).

Attendees must register by November 3, 2021.

2. A BOSC deliberation videoconference will be held on November 18, 2021, from 11 a.m. to 2 p.m. (EDT).

Attendees must register by November 17, 2021.

3. A final BOSC deliberation videoconference will be held on December 10, 2021, from 11 a.m. to 2 p.m. (EDT).

Attendees must register by December 9, 2021.

Meeting times are subject to change. This series of meetings is open to the public. Comments must be received by November 3, 2021, to be considered by the subcommittee. Requests for the draft agenda or making a presentation at any of the meetings will be accepted until November 3, 2021.

ADDRESSES: Instructions on how to connect to the videoconference will be provided upon registration at: https://epa-bosc-css-hera-subcommittee-mtg.eventbrite.com.

Submit your comments to Docket ID No. EPA-HQ-ORD-2015-0635 by one of the following methods:

• www.regulations.gov: Follow the online instructions for submitting comments.

Note: comments submitted to the www.regulations.gov website are anonymous unless identifying information is included in the body of the comment.

• Email: Send comments by electronic mail (email) to: ORD.Docket@epa.gov, Attention Docket ID No. EPA-HQ-ORD-2015-0635.

Note: Comments submitted via email are not anonymous. The sender's email will be included in the body of the comment and placed in the public docket which is made available on the internet.

Instructions: All comments received, including any personal information provided, will be included in the public docket without change and may be made available online at www.regulations.gov. Information claimed to be Confidential Business Information (CBI) or other information whose disclosure is restricted by statute will not be included in the public docket and should not be submitted through www.regulations.gov or email. For additional information about the EPA's public docket visit the EPA Docket Center homepage at http://www.epa.gov/dockets/.

Public Docket: Publicly available docket materials may be accessed Online at www.regulations.gov.

Copyrighted materials in the docket are only available via hard copy. The telephone number for the ORD Docket Center is (202) 566-1752.

FOR FURTHER INFORMATION CONTACT: The Designated Federal Officer (DFO), Tom Tracy, via phone/voicemail at: 919-541-4334; or via email at: tracy.tom@epa.gov.

Requests for the draft agenda or making a presentation at this series of meetings will be accepted until November 3, 2021.

SUPPLEMENTARY INFORMATION: The Board of Scientific Counselors (BOSC) is a federal advisory committee that provides advice and recommendations to EPA's Office of Research and Development on technical and management issues of its research programs. The meeting agenda and materials will be posted to https://www.epa.gov/bosc.

Proposed agenda items for the meetings include, but are not limited to, the following: Review the recent progress and activities of the Chemical Safety Analytics (CSA) and Emerging Materials and Technologies (EMT) research areas.

Information on Services Available: For information on translation services, access, or services for individuals with disabilities, please contact Tom Tracy at 919-541-4334 or tracy.tom@epa.gov. To request accommodation of a disability, please contact Tom Tracy at least ten days prior to the meeting to give the EPA adequate time to process your request.

Authority: Public Law 92-463, 1, Oct. 6, 1972, 86 Stat. 770.

Mary Ross,
Director, Office of Science Advisor, Policy and Engagement.

[FR Doc. 2021-21393 Filed 9-30-21; 8:45 am]

BILLING CODE 6560-50-P